SMALL BUSINESS ADMINISTRATION

[Disaster Declaration # 14430 and # 14431]

Indiana Disaster # IN-00055

AGENCY: U.S. Small Business Administration.

ACTION: Notice.

SUMMARY: This is a notice of an Administrative declaration of a disaster for the State of Indiana dated 08/18/2015.

Incident: Severe Storms, Tornadoes, and Flooding.

Incident Period: 06/07/2015 through 07/29/2015.

Effective Date: 08/18/2015.

Physical Loan Application Deadline Date: 10/19/2015.

Economic Injury (EIDL) Loan Application Deadline Date: 05/18/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Brown, Huntington, Jay, Jefferson, Morgan.

Contiguous Counties:

Indiana: Adams, Allen, Bartholomew, Blackford, Clark, Delaware, Grant, Hendricks, Jackson, Jennings, Johnson, Marion, Monroe, Owen, Putnam, Randolph, Ripley, Scott, Switzerland, Wabash, Wells, Whitley.

Kentucky: Carroll, Trimble.

Ohio: Darke, Mercer.

The Interest Rates are:

| Percent
For Physical Damage:
Homeowners With Credit Available Elsewhere | 3.375
Homeowners Without Credit Available Elsewhere | 1.688
Businesses With Credit Available Elsewhere | 6.000
Businesses Without Credit Available Elsewhere | 4.000
Non-Profit Organizations With Credit Available Elsewhere | 2.625
Non-Profit Organizations Without Credit Available Elsewhere | 2.625
For Economic Injury:
Businesses & Small Agricultural Cooperatives Without Credit Available Elsewhere | 4.000
Non-Profit Organizations Without Credit Available Elsewhere | 2.625

The number assigned to this disaster for physical damage is 14430 B and for economic injury is 14431 0.

The States which received an EIDL Declaration # are Indiana, Kentucky, Ohio.

(Catalog of Federal Domestic Assistance Numbers 59002 and 59008)

Dated: August 18, 2015.
Maria Contreras-Sweet,
Administrator.

[FR Doc. 2015-21066 Filed 8-25-15; 8:45 am]

BILLING CODE 8025-01-P